FEDERAL MARITIME COMMISSION

Ocean Transportation Intermediary License Revocations

The Commission gives notice that the following Ocean Transportation Intermediary licenses have been revoked pursuant to section 19 of the Shipping Act of 1984 (46 U.S.C. 40101) effective on the date shown.

License No.: 18706N.

Name: Epic International Transport, LLC.

Address: 5001 Airport Plaza Drive, Suite 220, Long Beach, CA 90815.

Date Revoked: June 19, 2013.

Reason: Voluntary Surrender of License.

License No.: 022760F.

Name: RDD Freight International, (LA) Inc.

Address: 18311 Railroad Street, City of Industry, CA 91748.

Date Revoked: July 5, 2013.

Reason: Failed to maintain a valid bond.

James A. Nussbaumer,
Deputy Director, Bureau of Certification and Licensing.

[FR Doc. 2013-19419 Filed 8-9-13; 8:45 am]

BILLING CODE 6730-01-P